DEPARTMENT OF THE INTERIOR

Bureau of Land Management

[CA-610-09-0777-42]

Meeting of the California Desert District Advisory Council

SUMMARY: Notice is hereby given, in accordance with Public Laws 92-463 and 94-579, that the California Desert District Advisory Council to the Bureau of Land Management, U.S. Department of the Interior, will participate in a field tour of the BLM-administered public lands on Friday, October 20, 2000, from 8:00 a.m to 4 p.m., and meet in formal session on Saturday, October 21, from 8 a.m. to 5 p.m. The Saturday meeting will be held in the City Council Chambers at City Hall, located at 220 East Mountain View, Barstow, California.

The Council and interested members of the public will assemble for the field tour at the Holiday Inn parking lot at 7:45 a.m. and depart at 8 a.m. The hotel is located at 1511 East Main Street in Barstow. Tour stops will include sites along Route 66, Amboy Crater, Cadiz Land Company for a discussion on the proposed Cadiz-Metropolitan Water District (MWD) Groundwater and Dry-Year Supply Program, Camp Essex (Patton Camp), and Goffs. Members of the public are welcome to participate in the tour, but should plan on providing their own transportation, drinks, and lunch.

The Council will meet in formal session on Saturday. Agenda items will include updates/briefings on the BLM National Off-Highway Vehicle Management Strategy, Route 66, and the California Desert District Recreation Fee District Policy. At 1:00 p.m. discussions will focus on the proposed Cadiz-MWD Groundwater Storage Project. The Council meeting also will serve as a public meeting during which BLM will accept and record public comment regarding the proposed project. Members of the public must register with the Council Chairman to speak. The time allotted each speaker will be based upon the number of people who register to speak.

All Desert District Advisory Council meetings are open to the public. Time for public comment may be made available by the Council Chairman during the presentation of various agenda items, and is scheduled at the beginning of the meeting for topics not on the agenda.

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

FOR FURTHER INFORMATION CONTACT: Doran Sanchez at (909) 697-5220, BLM California Desert District External Affairs.

Tim Salt,
District Manager.

[FR Doc. 00-24532 Filed 9-22-00; 8:45 am]

BILLING CODE 4310-40-P